ENVIRONMENTAL PROTECTION AGENCY

[EPA-R08-SFUND-2022-0281; FRL-9769-01-R8]

CERCLA Administrative Settlement Agreement for Response Actions and Payment of Response Costs by Prospective Purchaser, Sand Creek Superfund Site, Commerce City, Colorado

AGENCY: Environmental Protection Agency (EPA).

ACTION: Notice of proposed agreement; request for public comment.

SUMMARY: Notice is hereby given by the U.S. Environmental Protection Agency (EPA), Region 8, of a proposed prospective purchaser settlement agreement embodied in an Administrative Settlement Agreement, with the Colorado Department of Public Health and the Environment on behalf of the State of Colorado (the “State”), and the prospective purchaser, Triangle Logistics Center, LLC, a Delaware limited liability company (“Purchaser”). This agreement provides for the performance of a removal action by Purchaser and the payment of certain response costs incurred by the United States and the State at or in connection with the property consisting of five parcels totaling approximately ninety-two (92) acres with South Adams County Assessor parcel numbers 0182317300008, 0182317300029, and City and County of Denver Assessor parcel numbers 01184-00-014-000, 01184-01-008-000, and 01184-01-007-000(the “Property”), which is part of Operable Units (“OUs”) 3 and 6 of the Sand Creek Industrial Superfund Site (“Site”).

DATES: Comments must be submitted on or before June 6, 2022.

ADDRESSES: The proposed agreement and additional background information relating to the agreement will be available upon request. To reduce the risk of COVID-19 transmission, for this action we do not plan to offer hard copy review of the docket. Comments and requests for a copy of the proposed agreement should be addressed to Julie Nicholson, Enforcement Specialist, Superfund and Emergency Management Division, Environmental Protection Agency-Region 8, Mail Code 8SEM-PAC, 1595 Wynkoop Street, Denver, Colorado 80202, (303) 312-6343, nicholson.julie@epa.gov and should reference the Sand Creek Industrial Superfund Site.

You may also send comments, identified by Docket ID No. EPA-R08-SFUND-2022-0281 to http://www.regulations.gov. Follow the online instructions for submitting comments.

FOR FURTHER INFORMATION CONTACT: Max Greenblum, Assistant Regional Counsel, Office of Regional Counsel, Environmental Protection Agency, Region 8, Mail Code 8ORC-LEC,1595 Wynkoop, Denver, Colorado 80202, telephone number: (303) 312-6108, email address: greenblum.max@epa.gov.

SUPPLEMENTARY INFORMATION: For thirty (30) days following the date of publication of this document, the Agency will receive written comments relating to the agreement. The Agency will consider all comments received and may modify or withdraw its consent to the agreement if comments received disclose facts or considerations that indicate that the agreement is inappropriate, improper, or inadequate.

Ben Bielenberg,
Acting Division Director, Superfund and Emergency Management Division, Region 8.

[FR Doc. 2022-09689 Filed 5-4-22; 8:45 am]

BILLING CODE 6560-50-P